DEPARTMENT OF COMMERCE

Statutory Import Programs Staff; Change of Address

The office of Statutory Import Programs Staff has moved from the Department of Commerce's Herbert Clark Hoover Building, Room 4211 to the Franklin Court Building, Suite 4100W. Please use the appropriate address described below:

For Regular Mail via the U.S. Postal Service, please use:Statutory Import Programs Staff, U.S. Department of Commerce, FCB, Suite 4100W, 14th and Constitution Ave., NW, Washington, DC 20230.

For Express Mail Delivery Service, please use: Statutory Import Programs Staff, Department of Commerce, Franklin Court Building, Suite 4100W, 1099 14th St., NW, Washington, DC 20005.

Dated: September 14, 2001.
Faye Robinson,
Acting Director.

[FR Doc. 01-23456 Filed 9-19-01; 8:45 am]

BILLING CODE 3510-25-P